DEPARTMENT OF HEALTH AND HUMAN SERVICES

Office of Inspector General

Program Exclusions: December 2001

AGENCY: Office of Inspector General, HHS.

ACTION: Notice of program exclusions.

During the month of December 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
Program-Related Convictions
BEP Services, LP | 08/15/2001
Louisville, KY
Filkins, Ann Weaver | 01/20/2002
Pulteney, NY
Jimenez-Casso, Jose | 01/20/2002
Bayamon, PR
Johnson, Eddie | 01/20/2002
Dillon, SC
Katz, Ronald | 01/20/2002
New York, NY
Lopez-Morales, Angel | 01/20/2002
Bayamon, PR
Richey, Donna Marie | 01/20/2002
E Wenatchee, WA
Roche, Fernando M | 01/20/2002
Miami, FL
Temple, Terry Lee | 01/20/2002
Scottsdale, AZ
Thomas, Cynthia | 01/20/2002
Wichita, KS
Tirado-Rivera, Hernon | 01/20/2002
Bayamon, PR
Felony Conviction for Health Care
Dilli, Darlene Marie | 0120/02
McPherson, KS
Felony Control Substance Conviction
Gimenez, Alonzo R | 01/20/2002
Ripon, WI
Goldstein, Marshall | 01/20/2002
Upper St Clair, PA
Lee, Wendy Louise Waite | 01/20/2002
Greeley, CO
Leone, Michael A | 01/20/2002
Indianapolis, IN
Teal, Robin Louise | 01/20/2002
Cary, NC
Patient Abuse/Neglect Convictions
Benjamin, Kimberly | 01/20/2002
Isanti, MN
Coviello, Peter Raymond | 01/20/2002
Whitney, TX
Euerle, Nancy | 01/20/2002
Newport, MN
Finch, Brenda Ona | 01/20/2002
San Antonio, TX
Lewis, Shentelle Lanelle | 01/20/2002
Jeanerette, LA
Miguel, Alejandra C | 01/20/2002
Lihue, HI
Nelson, Konrad P | 01/20/2002
Orem, UT
Perdue, Elizabeth | 01/20/2002
Lawton, OK
Pilant, Jesse Wayne | 01/20/2002
Tucson, AZ
Rogers, Harold Clifton | 01/20/2002
Elk City, OK
Smith, Kevin Bernard | 01/20/2002
Laurel, MS
White, Tonya Y | 01/20/2002
Tulsa, OK
License Revocation/Suspension/Surrendered
Alvarez, Mark T | 01/20/2002
Cranston, RI
Barcelos, Susana M | 01/20/2002
Chino, CA
Bennett, Freeman Thomas | 01/20/2001
Jackson, MS
Blaylock, Tina Folies | 01/20/2002
Indianapolis, IN
Bradshaw, Benjamin F | 01/20/2002
Jerome, ID
Brosemer, Dwaine G | 01/20/2002
Poway, CA
Brown, Tracey Lee | 01/20/2002
Tulsa, OK
Bullington, Tom Wilson Jr | 01/20/2002
Wichita Falls, TX
Bullock, Johnny Ray Jr | 01/20/2002
Columbia, MS
Bustos, Rodolfo Calara | 01/20/2002
Lakewood, CA
Byrd, Shirley B Smith | 01/20/2002
Midlothian, TX
Byrum, Rebecca G | 01/20/2002
Russellville, TN
Case, Camille Mary | 01/20/2002
New Hope, MN
Clayton, Mary Diane | 01/20/2002
Santa Fe, TX
Cooke, Peggy J | 01/20/2002
Boerne, TX
Copanas, Barbara T | 01/20/2002
N Syracuse, NY
Corbett, Bannon Louis | 01/20/2002
Fayetteville, NC
Craig, Velina Faye | 01/20/2002
Amarillo, TX
Dancer, Pamela Renee | 01/20/2002
Lavernia, TX
Daughton, Margaret Irene | 01/20/2002
Mound, MN
De Sibila, Estrella Meredos | 01/20/2002
Miami, Fl
Debiasio, Teresa C | 01/20/2002
Johnston, RI
Delfin, Jose G | 01/20/2002
Chicago, IL
Dempsey, Lori Louise | 01/20/2002
Urbana, IL
Elliott, John | 01/20/2002
San Angelo, TX
Ethridge, Gary Brent | 01/20/2002
Lubbock, TX
Evans, Gregory Ebon | 01/20/2002
Effingham, IL
Farina, Joel A | 01/20/2002
Tucson, AZ
Fischer, Joseph Bernard | 01/20/2002
Zimmerman, MN
Flint, Mary A | 01/20/2002
Houston, TX
Forti, Paul J | 01/20/2002
E Hanover, NJ
Fowler, Franklin L | 01/20/2002
Peoria, AZ
George, Barbara Gene | 01/20/2002
Houston, TX
Gilbert, Lori Nell | 01/20/2002
Round Rock, TX
Gilbert, Greg | 01/20/2002
Amarillo, TX
Gouin, Michelle M | 01/20/2002
Sedona, AZ
Gray, Ava | 01/20/2002
Gautier, MS
Hakola, Lee Gordon | 01/20/2002
Germantown, TN
Hamilton, Peder Hudson | 01/20/2002
Campbell, CA
Harris, Okera Kandie | 01/20/2002
San Diego, CA
Hart, Linda Lee | 01/20/2002
Cottage Grove, OR
Harvey, Paula Sue | 01/20/2002
Romayor, TX
Hernandez, Susie | 01/20/2002
Glendale, AZ
Hess, Karla Jean | 01/20/2002
Rochester, MN
Hodges, Crystal Dawn | 01/20/2002
Wilson, OK
Holder, Donna Lynn | 01/20/2002
Batesville, AR
Howell, James Benwell Jr | 01/20/2002
Bryan, TX
Johnson, Clifton Walter | 01/20/2002
Superior, WI
Johnson, Joe Allen Jr | 01/20/2002
Brandon, MS
Johnson, G Nicholas | 01/20/2002
Sausalito, CA
Jones, Katie Mae | 01/20/2002
Jackson, MS
Kaufman, Donna | 01/20/2002
Oxford, MS
Kennard, Carol J | 01/20/2002
Kingsport, TN
Kirby, Janet D | 01/20/2002
Conroe, TX
Kowalik, Vance | 01/20/2002
San Antonio, TX
Krupke, Nancy Lee | 01/20/2002
Willmar, MN
Kuehn, Sharon R | 01/20/2002
N Richland Hills, TX
Lara, Sandra C | 01/20/2002
Houston, TX
Leith, Gwendolyn Faye | 01/20/2002
Fairfield, IL
Lewis, Marshall G | 01/20/2002
Natchez, MS
Little, Donna Sue | 01/20/2002
Port Lavaca, TX
Long, Deborah Lynn | 01/20/2002
Framingham, MA
Lopez, Deborah | 01/20/2002
Meridian, MS
Lott, Cynthia Rose | 01/20/2002
Fairfield, CA
Macdougall, Catherine T | 01/20/2002
Brighton, MA
Martin, Stephanie Gail | 01/20/2002
Little Rock, AR
Masden, Beth A Henson | 01/20/2002
Richmond, KY
McCreary, William F | 01/20/2002
Astor, FL
McGowan, Gail T | 01/20/2002
Holliston, MA
MCrae, Teresa | 01/20/2002
Dekalb, MS
Melnyk, Lisa Marie | 01/20/2002
Winnipeg Canada, CN
Mitchell, Vanzie L | 01/20/2002
Abbeville, AL
Morrow, Hubert Wesley III | 01/20/2002
Sherman, TX
Myatt, Donna Marie | 01/20/2002
Hull, MA
Nelson, Connie Yvonne | 01/20/2002
Calera, AL
Noel, Raymond V | 01/20/2002
Glendale, AZ
Noll, Cindy | 01/20/2002
Houston, TX
Pendley, Virginia Marie | 01/20/2002
Miami, OK
Rehmatullah, Tahir M | 01/20/2002
East Haven, CT
Reinhard, Amy Jean | 01/20/2002
Fountain, CO
Rice, Timothy Ray | 01/20/2002
Maxie, VA
Riggs, Rhonda Lynn | 01/20/2002
Denison, TX
Robson, Laura Ellen | 01/20/2002
Aliso Viejo, CA
Rohner, Sue E | 01/20/2002
Greenfield, IA
Samuels, David Lee | 01/20/2002
Louisville, KY
Shelton, Kimberly | 01/20/2002
Wesson, MS
Shipp, Lara | 01/20/2002
San Angelo, TX
Song, Kee Woon | 01/20/2002
Denver, CO
Southerland, Clara Ann | 01/20/2002
Jackson, MS
Stewart, Daniel | 01/20/2002
Jackson, MS
Stratford, William | 01/20/2002
Brooklyn, NY
Thibodeaux, Laura | 01/20/2002
Gulfport, MS
Watson, Luann H | 01/20/2002
Fordyce, AR
Watson, Roberta Aurora Amina | 01/20/2002
Minneapolis, MN
Wernette, Michael D | 01/20/2002
Chicago, IL
Williams, Golden M | 01/20/2002
Stanfield, AZ
Williams, Sencelra Brown | 01/20/2002
Warrenton, NC
Wolfenbarger, Lisa D | 01/20/2002
Knoxville, TN
Zadeh, Ali Shamaei | 01/20/2002
Paintsville, KY
Ziegler, Ann Marie | 01/20/2002
Milan, IL
Federal/State Exclusion/Suspension
Hwang, Jia Hsing | 01/20/2002
Chicago, IL
Mathew, Aelamplaseril | 01/20/2002
Quincy, IL
Ponglorpisita, Suchat | 01/20/2002
Chicago, IL
Fraud/Kickbacks
Mitruka, Brij M | 09/18/2001
New Orleans, LA
Owned/Controlled by Convicted Entities
Anthony Perso, D C | 01/20/2002
Massapequa, NY
Bittenberger Chiropractic | 01/20/2001
Wilkes Barre, PA
Christina Sirlin | 01/20/2002
Yonkers, NY
CPC Pharmacy, Inc | 01/20/2002
Bronx, NY
Diversified Pain Center | 01/20/2002
Wilkes Barre, PA
Downtown Chiropractic | 01/20/2002
El Centro, CA
Family Chiropractic of Newton | 01/20/2002
Langhorne, PA
Healing Arts Center | 01/20/2002
Houston, TX
Default on Heal Loan
Acevedo-Reyes, Angel Luis C | 01/20/2002
San Juan, PR
Beckford, Audrey Leonie | 01/20/2002
E Orange, NJ
Clay, Mark David | 12/06/2001
Birmingham, AL
Daniel, Albert M III | 01/20/2002
Grapevine, TX
Dominic, Anthony J | 01/20/2002
Manasquan, NJ
Geisler, Marlene G | 01/20/2002
Paonia, CO
Grobes, Rodney T | 01/20/2002
Bear, DE
Hunt, Richard Dean | 01/20/2002
Pasadena, CA
Kandakloo, Farhad Elliot | 01/20/2002
Hayward, CA
Nunoo, Godfrey Okine | 01/20/2002
Oakland, CA
Ojo, Odion Emmanuel | 01/20/2002
Houston, TX
Orwig, Stephen R | 01/20/2002
Irving, TX
Powers, Thomas P | 01/20/2002
Pawhuska, OK
Reynolds, Ferman Ray Jr | 01/20/2002
Dallas, TX
Rivera, Nelson E | 12/05/2001
Hartford, CT
Rogers, Robert | 01/20/2002
Aptos, CA
Rogers, Terri Lynn | 01/20/2002
Los Angeles, CA
Rushing, Gary W | 01/20/2002
Matawan, NJ
Schluter, Lyle C A | 01/20/2002
Sonoma, CA
Sirois, Bernard D Jr | 01/20/2002
Salem, MO
Small, Deborah Elizabeth | 01/20/2001
Colton, CA
Strus, Deborah A | 01/20/2002
San Antonio, TX
Vengco, Jennifer | 01/20/2002
W Covina, CA
Washington, Patricia A | 01/20/2002
Trabuco Canyon, CA
Wentworth, Robert D | 01/20/2002
Mount Laurel, NJ
Willey, Patricia Anne | 01/20/2002
Dos Palos, CA

Dated: December 31, 2001.
Calvin Anderson, Jr.,
Director, Health Care Administrative Sanctions, Office of Inspector General.

[FR Doc. 02-4612 Filed 2-26-02; 8:45 am]

BILLING CODE 4150-04-P